ENVIRONMENTAL PROTECTION AGENCY

[EPA-HQ-OPP-2022-0223; FRL-11801-01-OCSPP]

Chlorpyrifos; Amendment to Existing Stocks Provisions in Adama Product Cancellation Orders

AGENCY: Environmental Protection Agency (EPA).

ACTION: Notice.

SUMMARY: On May 4, 2023 and November 6, 2023, EPA issued final cancellation orders terminating food uses for three products, which were voluntarily requested by Adama and accepted by the Agency, pursuant to the Federal Insecticide, Fungicide, and Rodenticide Act (FIFRA). The Agency is issuing this notice to amend the existing stocks provisions in the May 4, and November 6, 2023 orders, for the products listed in this document.

ADDRESSES: The docket for this action, identified under docket identification (ID) number EPA-HQ-OPP-2022-0223, is available online at https://www.regulations.gov. Additional instructions on visiting the docket, along with more information about dockets generally, is available at https://www.epa.gov/dockets.

FOR FURTHER INFORMATION CONTACT: Patricia Biggio, Pesticide Re-Evaluation Division (7508M), Office of Pesticide Programs, Environmental Protection Agency, 1200 Pennsylvania Ave. NW, Washington, DC 20460-0001; telephone number: (202) 566-0700; email address: OPPChlorpyrifosInquiries@epa.gov.

SUPPLEMENTARY INFORMATION:

I. General Information

Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

II. What action is the Agency taking?

In its May 4, 2023 Cancellation Order for Certain Chlorpyrifos Registrations and Uses, EPA granted Adama's request to terminate food uses and the tobacco use on its three chlorpyrifos products. 88 FR 28541. That order noted that all chlorpyrifos tolerances had been revoked, and thus all use on food, sale, and distribution of existing stocks for the products identified in that order were inconsistent with the purposes of FIFRA, with the following exceptions. Use was permitted for non-food uses consistent with labeling, and existing stocks were permitted to be sold and distributed for export, proper disposal, or in accordance with return agreements approved by EPA.

In addition, on November 6, 2023, EPA granted Adama's request to terminate the food processing and food manufacturing site uses on those same three chlorpyrifos products. See Final Cancellation Order for Certain Chlorpyrifos Registrations and Uses, 88 FR 76213 (Nov. 6, 2023). That order contained existing stocks provisions that were similar to the provisions in the May 4, 2023 order.

Subsequent to the issuance of the May 4, 2023 and November 6, 2023 cancellation orders, the U.S. Court of Appeals for the Eighth Circuit vacated EPA's rule revoking all tolerances. (Red River Valley Sugarbeet Growers Associations, et al. v. Regan, 85 F.4th 881 (8th Cir. 2023). On February 5, 2024, EPA issued a Federal Register notice to amend the Code of Federal Regulations to reflect the court's reinstatement of those tolerances. 89 FR 7625. At this time, all the chlorpyrifos tolerances have been reinstated and are currently in effect. See 40 CFR 180.342. Adama requested amendments to the cancellation orders governing disposition of their existing stocks to allow for sale, distribution, and use.

Because the reinstatement of the chlorpyrifos tolerances means that chlorpyrifos products can be used in accordance with their labeling without concern for adulterated food, EPA is amending the cancellation orders to update the existing stocks language for the following Adama products:

• Pyrinex Chlorpyrifos Insecticide (EPA Reg. No. 11678-58).

• Chlorpyrifos 4E AG (alternate brand name Quali-Pro Chlorpyrifos 4E) (EPA Reg. No. 66222-19).

• Vulcan (EPA Reg. No. 66222-223).

The registrant for all three of the listed products is Adama US, and its address is 3120 Highwoods Boulevard, Suite 100, Raleigh, NC 27604.

III. Provisions for Disposition of Existing Stocks

Existing stocks for the products identified in this document are those stocks of registered pesticide products that are currently in the United States and that were packaged, labeled, and released for shipment prior to May 4, 2023 (for termination of food uses and tobacco use) and prior to November 6, 2023 (for termination of food processing and food manufacturing uses).

At this time, EPA is amending the existing stocks provisions in the May 4 and November 6 cancellation orders as follows:

• Sale and distribution of existing stocks of Pyrinex Chlorpyrifos Insecticide (EPA Reg. No. 11678-58) is permitted until June 30, 2024.

• Sale and distribution of existing stocks of Chlorpyrifos 4E AG and Quali-Pro Chlorpyrifos 4E (EPA Reg. No. 66222-19) and Vulcan (EPA Reg. Nos. 66222-233) is permitted until April 30, 2025.

• Use of existing stocks of Chlorpyrifos 4E AG, Quali-Pro Chlorpyrifos 4E, and Vulcan on food, food processing sites, and food manufacturing sites must be consistent with the product labeling. Such use is permitted until June 30, 2025. Use of existing stocks Chlorpyrifos 4E AG, Quali-Pro Chlorpyrifos 4E, and Vulcan for non-food purposes is permitted until existing stocks are exhausted, as long as such use is in accordance with the labeling.

After these dates, all respective sale, distribution, and use of existing stocks is prohibited, except for sale and distribution for export consistent with FIFRA section 17 (7 U.S.C. 136o) and for proper disposal.

Dated: March 11, 2024.
Timothy Kiely,
Acting Director, Pesticide Re-Evaluation Division, Office of Pesticide Programs.

[FR Doc. 2024-05594 Filed 3-14-24; 8:45 am]

BILLING CODE 6560-50-P